DEPARTMENT OF THE INTERIOR

Fish and Wildlife Service

[FWS-R8-ES-2011-N038; 1112-0000-81440-F2]

Endangered and Threatened Wildlife and Plants; Permits, City of Scotts Valley and Santa Cruz County, CA

AGENCY: Fish and Wildlife Service, Interior.

ACTION: Notice of availability.

SUMMARY: We, the U.S. Fish and Wildlife Service (Service), have received applications from the County of Santa Cruz (County) and the City of Scotts Valley (City) (applicants) for incidental take permits under section the Endangered Species Act of 1973, as amended (Act). We are considering issuing permits that would authorize the applicants' take of the Federally endangered Mount Hermon June beetle (Polyphylla barbata) incidental to otherwise lawful activities that would result in the permanent loss of 139 acres of habitat for the species in Santa Cruz County, California. The permits would also include the Federally endangered Ben Lomond spineflower (Chorizanthe pungens var. hartwegiana) as a covered species. We invite comments from the public on the applications, which include an Interim Programmatic Habitat Conservation Plan (IPHCP) and an Implementing Agreement (IA) that describe the proposed project and measures the applicants would undertake to minimize and mitigate anticipated take of the species. We also invite comments from the public on the draft environmental assessment (EA) prepared to comply with the National Environmental Policy Act (NEPA).

DATES: Please send your written comments by May 31, 2011.

ADDRESSES: Please address written comments to Diane K. Noda, Field Supervisor, Ventura Fish and Wildlife Office, U.S. Fish and Wildlife Service, 2493 Portola Road, Suite B, Ventura, CA 93003. You may alternatively send comments by facsimile to (805) 644-3958.

FOR FURTHER INFORMATION CONTACT: Jen Lechuga, HCP Coordinator, 2493 Portola Road, Suite B, Ventura, CA 93003, or by telephone at (805) 644-1766, extension 224.

SUPPLEMENTARY INFORMATION:

Availability of Documents

You may download a copy of the IPHCP, IAs and related documents on the Internet at http://www.fws.gov/ventura/, or you may request documents by U.S. mail or phone. Individuals wishing copies of the Draft IPHCP, Draft EA, and/or Draft IAs, should contact the Service by telephone (see FOR FURTHER INFORMATION CONTACT).

Background

The Service designated the Ben Lomond spineflower and Mount Hermon June beetle as Federally endangered in 1994 and 1997, respectively, under the Act (59 FR 5499, February 4, 1994; 62 FR 3616, January 24, 1997). Section 9 of the Act (16 U.S.C. 1531 et seq.) and our implementing Federal regulations in the Code of Federal Regulations (CFR) at 50 CFR part 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take (i.e., take that is incidental to, and not the purpose of, the carrying out of an otherwise lawful activity). Regulations governing incidental take permits for threatened and endangered species are at 50 CFR 17.32 and 17.22, respectively. The Act's take prohibitions do not apply to Federally listed plants on private lands. In addition to meeting other permit issuance criteria, the applicant's proposed covered activities must not jeopardize the existence of Federally listed fish, wildlife, or plants.

Project Location

The Project is located on soils known as Zayante sands. These soils support the Zayante sandhills ecosystem, which occurs exclusively in the Santa Cruz Mountains near the City of Scotts Valley and the communities of Ben Lomond, Mount Hermon, Felton, Olympia, Corralitos, and Bonny Doon. The Mount Hermon June beetle is restricted to Zayante sands soils in the Scotts Valley-Mount Hermon-Felton-Ben Lomond area and is found in association with vegetation of the Zayante sandhills, which is characterized by a mosaic of ponderosa pines (Pinus ponderosa), silverleaf manzanita (Arctostaphylos silvicola), and areas that are sparsely vegetated with grasses and herbs.

Project Information

In the Zayante Sandhills region, numerous private landowners within the City or County are interested in applying for ITPs to allow for the take of the Mount Hermon June beetle incidental to small development projects (e.g., single-family dwelling, garage, house remodel, deck, etc.) on private parcels and to address associated impacts to Ben Lomond spineflower. The Service recommended that the City and County coordinate ITP applications and develop a regional programmatic habitat conservation plan (HCP) for the Sandhills. Completion and implementation of a regional HCP would provide conservation benefits for these and other rare species associated with this habitat and would streamline the process for landowners to comply with the Act and local and State permits.

The City and County propose to extend their take authorization issued by the Service to project proponents through a certificate of inclusion. Individual projects on private land would be eligible for ITP coverage if the project meets specific criteria. Landowners would determine if their proposed project is eligible for ITP coverage (that is, whether their project is a Covered Activity under the ITP) based on a set of criteria and a checklist of eligibility requirements. These determinations by landowners would be reviewed by the City or County. The City or County would review individual projects based on the following criteria:

• Project is residential.

• Project is located on a parcel that is 1.5 acres or less in size.

• Project would result in ground disturbance of Zayante soils.

• Development envelope for the project, when combined with the development envelope for any project previously implemented on the same parcel using the proposed IPHCP and the relevant ITP, will not exceed 15,000 square feet (0.34 acre).

• Proposed development is one or more of the following project types that requires a City or County discretionary or building permit that involves ground disturbance. Examples include: (1) Single-family dwelling; (2) guest cottage (or accessory dwelling unit); (3) attached or detached garage, shed, storage building; (4) room addition; (5) remodels that involve ground disturbance; and (6) septic system installations and upgrades that involve new ground disturbance.

• On a case-by-case basis, the Service and the appropriate local jurisdiction may also approve for coverage under the proposed IPHCP and ITPs other similar development projects that meet the eligibility requirements listed in the proposed IPHCP.

Ten Project Units (Designated group of land parcels) within the IPHCP boundary were identified within the communities of Ben Lomond, Felton, Mount Hermon, and Scotts Valley. These Project Units range in size from 3.2 to 373 acres and encompass a total of 1,693.2 acres, including roads, common areas, and substantial areas containing prior development. Within these Project Units, a maximum of 139 acres of Sandhills habitat may be developed or otherwise disturbed under the proposed IPHCP as a result of Covered Activities. According to the proposed IPHCP, this acreage represents 5 percent of the estimated total amount (2,800 acres) of Sandhills habitat with documented occurrences of the Mount Hermon June beetle as of 2004.

The IPHCP proposes to provide a process under which landowners may proceed with small development projects in areas where on-site avoidance of habitat for the Mount Hermon June beetle and Ben Lomond spineflower is not feasible. In such cases, landowners will first be required to minimize habitat loss and disturbance via the implementation of the following required minimization measures (see the IPHCP for additional details about these measures):

• Impacts to plants that are native to the Sandhills must be avoided to the greatest extent feasible, consistent with the purpose of the Covered Activity.

• Ground-disturbing activities associated with construction (e.g., vegetation clearance, grading, digging, etc.) must be minimized between May 15 and August 15 within the development envelope.

• If construction-related ground disturbance associated with Covered Activities cannot be scheduled to avoid the May 15 to August 15 timeframe, participating landowners must ensure that areas that have been disturbed by construction activities during this timeframe are covered each evening during this timeframe with tarps, landscape fabric, or other similar material. Only the immediate areas that have been recently disturbed (i.e., with exposed dirt just before the species flight season) must be covered in this manner between May 15 and August 15.

• Landscaping elements that degrade habitat must be minimized to the greatest extent feasible, as determined by the City or County, and consistent with the purpose of the Covered Activity.

• Indirect impacts to the Mount Hermon June beetle from project lighting must be minimized to the greatest extent feasible.

In addition to the above minimization measures, the impacts of Covered Activities must be mitigated and compensated for through the implementation of the following mitigation measures (see the IPHCP for additional details about these measures):

• To the maximum extent feasible, the City and County will require that any revegetation or landscaping activities associated with Covered Activities are conducted using locally derived source material (i.e., seeds or cuttings) of plant species native to the Sandhills, with particular emphasis on the plant species identified in Appendix F of the IPHCP.

• Prior to beginning any ground-disturbing activities, the impacts of Covered Activities must be mitigated in one of the following ways: (1) The landowner must secure conservation credits for the Mount Hermon June beetle at a ratio of 1:1 in terms of acres of disturbance to numbers of credits (e.g., a project with a 0.1-acre disturbance envelope will mitigate by securing 0.1 acre of conservation credits for the Mount Hermon June beetle) at the Zayante Sandhills Conservation Bank; or (2) The landowner must secure conservation credits for the Mount Hermon June beetle at a ratio of 1:1 in terms of acres of disturbance to numbers of credits (e.g., a project with a 0.1-acre disturbance envelope will mitigate by securing 0.1 acre of conservation credits for the Mount Hermon June beetle) at another Service-approved conservation bank; this bank must also have an Operating Agreement with the County if the parcel is within the County's jurisdiction.

Environmental Assessment (EA)

The Draft EA considers the effects on the human environment of: (1) Our proposed action of issuing ITPs to the City and County based on the IPHCP, (2) a Reduced-Take Alternative to the proposed action, and (3) No Action Alternative. Under the Reduced-Take Alternative, we would propose to issue ITPs to the City and County where the total amount of development that would be covered under the IPHCP and related ITPs would be 100 acres, instead of 139 acres as is currently proposed. The maximum disturbance footprint would remain at 15,000 square feet (0.34 acre) per parcel. The boundaries of the 10 project units would remain unchanged as would the minimization and mitigation measures of the IPHCP's operating conservation plan. Under the No Action Alternative, the Service would not issue ITPs for the Mount Hermon June beetle to the City and County; thus, private landowners within the IPHCP area would have to apply to the Service individually to obtain an ITP.

Request for Comments

We are requesting comments on our preliminary determination that the proposed project will not have significant effects on the environment, and suggestions for issues we should consider in our analysis. The Service will use the EA to determine whether its decision can result in a Finding of No Significant Impact (FONSI) or if an Environmental Impact Statement (EIS) must be prepared.

Based on our review of public comments that we receive in response to this notice, we may revise this preliminary determination.

Public Availability of Comments

Please direct any comments to the Service contact listed above in the ADDRESSES section, and any questions to the Service contact listed in the FOR FURTHER INFORMATION CONTACT section. All comments and materials we receive, including names and addresses, will become part of the administrative record and may be released to the public. Before including your address, phone number, e-mail address, or other personal identifying information in your comment, you should be aware that your entire comment—including your personal identifying information—may be made publicly available at any time. While you can ask us in your comment to withhold your personal identifying information from public review, we cannot guarantee that we will be able to do so.

Next Steps

We will evaluate the IPHCP and comments we receive to determine whether the permit applications meet the requirements of section 10(a) of the Act (16 U.S.C. 1531 et seq.) and complete our compliance with NEPA. If we determine that the applications meet these requirements, we will issue the permits for incidental take of the Mount Hermon June beetle. We will also evaluate whether issuance of section 10(a)(1)(B) permits would comply with section 7 of the Act by conducting an intra-Service section 7 consultation. We will use the results of this consultation, in combination with the above findings, in our final analysis to determine whether or not to issue a permit. If the requirements are met, we will issue the permits to the applicants.

Authority

We provide this notice under section 10 of the Act (U.S.C. 1531 et seq.) and NEPA regulations (40 CFR 1506.6).

Dated: March 24, 2011.
Paul B McKim,
Acting Deputy Regional Director, Pacific Southwest Region, Sacramento, CA.

[FR Doc. 2011-7426 Filed 3-29-11; 8:45 am]

BILLING CODE 4310-55-P